DEPARTMENT OF AGRICULTURE

Forest Service

National Urban and Community Forestry Advisory Council

AGENCY: Forest Service, USDA.

ACTION: Notice of meeting.

SUMMARY: The National Urban and Community Forestry Advisory Council will meet in Biloxi, Mississippi, June 5-7, 2007. The purpose of the meeting is to discuss emerging issues in urban and community forestry.

DATES: The meeting will be held on June 5-7, 2007.

ADDRESSES: The business meetings on June 5 and 7 will be held at the Quality Inn, 2416 Beach Blvd., Biloxi, MS. A Catastrophic Storms and Urban Forests public listening session will be held on June 6 at the Mississippi Coast Coliseum and Convention Center, 2350 Beach Blvd., Biloxi, MS. Written comments concerning this meeting should be addressed to Suzanne M. del Villar, Executive Assistant, National Urban and Community Forestry Advisory Council, P.O. Box 1003, Sugarloaf, CA 92386-1003. Comments may also be sent via e-mail to sdelvillar@fs.fed.us, or via facsimile to (909) 585-9527.

All comments, including names and addresses when provided, are placed in the record and are available for public inspection and copying. The public may inspect comments received at USDA Forest Service, Urban and Community Forestry, 201 14th Street, SW., 1 Central Yates Building, Washington, DC. Visitors are encouraged to call ahead to 202-205-1057 to facilitate entry into the building.

FOR FURTHER INFORMATION CONTACT: Suzanne M. del Villar, Urban and Community Forestry Staff, (909) 585-9268, or via e-mail at sdelvillar@fs.fed.us,

Individuals who use telecommunication devices for the deaf (TDD) may call the Federal Information Relay Service (FIRS) at 1-800-877-8339 between 8 a.m. and 8 p.m., Eastern Standard Time, Monday through Friday.

SUPPLEMENTARY INFORMATION: The Council will be hosting a groundbreaking public listening session on Catastrophic Storms and Urban Forests on June 6, 2007, at the Mississippi Coast Coliseum and Convention Center, 2350 Beach Blvd., Biloxi, MS. There are several ways for the public to offer their testimony as explained on the Council's Web site at http://www.treelink.org/nucfac. Participants may give an on-site presentation, Web cast, written form, fax or e-mail. All testimony will be recorded, compiled, and tabulated into a final report to the Secretary of Agriculture.

Dated: April 11, 2007.
Robin L. Thompson,
Associate Deputy chief, State & Private Forestry.

[FR Doc. 07-1928 Filed 4-17-07; 8:45 am]

BILLING CODE 3410-11-M